DEPARTMENT OF COMMERCE

International Trade Administration

[A-570-814]

Certain Carbon Steel Butt-Weld Pipe Fittings From the People's Republic of China: Final Determination of Covered Merchandise Inquiry

AGENCY: Enforcement and Compliance, International Trade Administration, Department of Commerce.

SUMMARY: The U.S. Department of Commerce (Commerce) determines that certain carbon steel butt-weld pipe fittings (butt-weld pipe fittings) exported from the Socialist Republic of Vietnam (Vietnam) to the United States that were produced using fittings from the People's Republic of China (China) that undergo the first stage of production in China (rough fittings) and the second and third stages of production in Vietnam are not subject to the scope of the antidumping duty order on butt-weld pipe fittings from China based on the evidence on the record in this inquiry. Additionally, Commerce determines that butt-weld pipe fittings from China that undergo the first and second stages of production in China (unfinished fittings) and the third stage of production in Vietnam are subject to the scope of the antidumping duty order.

DATES: Applicable October 10, 2023.

FOR FURTHER INFORMATION CONTACT: Miranda Bourdeau, AD/CVD Operations Office V, Enforcement and Compliance, International Trade Administration, U.S. Department of Commerce, 1401 Constitution Avenue NW, Washington, DC 20230; telephone: (202) 482-2021.

SUPPLEMENTARY INFORMATION:

Background

On June 23, 2023, Commerce published in the Federal Register the preliminary results of this covered merchandise inquiry, determining that: (1) Chinese-origin unfinished fittings that only underwent the final stage of three production stages (i.e., finishing processes) in Vietnam are covered by the scope of the Order; and (2) Chinese-origin rough fittings that underwent both the second and third stages of production in Vietnam are not covered by the scope of the Order.¹ Commerce received comments from Norca Industrial Company, LLC (Norca) ² and Tube Forgings of America, Inc., Mills Iron Works, Inc., and Hackney-Ladish, Inc. (collectively, the petitioners).³

¹ See Certain Carbon Steel Butt-Weld Pipe Fittings from the People's Republic of China: Preliminary Results of Covered Merchandise Inquiry, 88 FR 41075 (June 23, 2023) (Preliminary Results); see also Antidumping Duty Order and Amendment to the Final Determination of Sales at Less Than Fair Value; Certain Carbon Steel Butt-Weld Pipe Fittings from the People's Republic of China, 57 FR 29702 (July 6, 1992) (Order).

² See Norca's Letter, “Norca Industrial Company, LLC Case Brief,” dated June 28, 2023; see also Norca's Letter, “Norca Industrial Company, LLC Rebuttal Case Brief,” dated July 3, 2023.

³ See Petitioners' Letter, “Petitioners' Case Brief,” dated June 28, 2023; see also Petitioners' Letter, “Petitioners' Rebuttal Brief,” dated July 3, 2023.

For a complete description of the events that followed the Preliminary Results, see the Issues and Decision Memorandum.⁴ The Issues and Decision Memorandum is a public document and is available electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Decision Memorandum for the Final Results of Covered Merchandise Inquiry—EAPA Inv. 7335: Certain Carbon Steel Butt-Weld Pipe Fittings from the People's Republic of China,” dated concurrently with, and hereby adopted by, this notice (Issues and Decision Memorandum).

Scope of the Order

The merchandise covered by the Order is unfinished and finished butt-weld pipe fittings. For a complete description of the scope of the Order, see the Issues and Decision Memorandum.

Merchandise Subject to the Covered Merchandise Inquiry

The products subject to this inquiry are rough and unfinished fittings originating in China and processed into butt-weld pipe fittings through two production scenarios in Vietnam.

Analysis of Comments Received

All issues raised in the case and rebuttal briefs that were submitted by parties in this inquiry are addressed in the Issues and Decision Memorandum. For a list of the issues raised by interested parties and addressed in the Issues and Decision Memorandum, see the Appendix to this notice.

Final Determination

We determine, pursuant to 19 CFR 351.227(e)(2), that rough fittings originating from China that undergo the second and third stages of production in Vietnam are not subject to the scope of the Order. Additionally, we find that unfinished fittings from China that undergo the third stage of production in Vietnam are subject to the scope of the Order. In reaching this determination, we relied on information placed on the record by Norca and the petitioners. For further discussion, see the Issues and Decision Memorandum.

Continuation of Suspension of Liquidation

As stated above, Commerce has made an affirmative finding that unfinished fittings originating from China that undergo the third stage of production in Vietnam, which were the subject of this referral from CBP, are subject to the scope of the Order. This affirmative in-scope finding applies on a country-wide basis, regardless of the producer, exporter, or importer, to all products from the same country with the same relevant physical characteristics as the products at issue. Therefore, in accordance with 19 CFR 351.227(l)(3), for these products, Commerce will direct CBP to: (1) continue the suspension of liquidation of previously suspended entries and apply the applicable cash deposit rate; (2) suspend liquidation and require a cash deposit of estimated duties, at the applicable rate, for each unliquidated entry of the product not yet suspended, entered, or withdrawn from warehouse, for consumption on or after September 26, 2022, the date of publication of the notice of initiation of this covered merchandise inquiry in the Federal Register; and (3) suspend liquidation and require a cash deposit of estimated duties, at the applicable rate, for each unliquidated entry of the product not yet suspended, entered, or withdrawn from warehouse, for consumption prior to September 26, 2022, but after November 4, 2021.⁵

⁵ See Certain Carbon Steel Butt-Weld Pipe Fittings from the People's Republic of China: Notice of Covered Merchandise Referral and Initiation of Covered Merchandise Inquiry, 87 FR 58310 (September 26, 2022).

Customs and Border Protection Notification

In accordance with section 517(b)(4)(B) of the Act, we will notify CBP of the final results of this covered merchandise inquiry. Commerce will direct CBP to assess, upon further instruction by Commerce, antidumping duties on all imports of unfinished fittings from China that undergo the third stage of production in Vietnam entered, or withdrawn from warehouse, for consumption on or after the effective date of the suspension of liquidation, as discussed above in the “Continuation of Suspension of Liquidation” section.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

This notice is issued and published pursuant to section 517 of the Act and 19 CFR 351.227(e)(2).

Dated: September 29, 2023.
Lisa W. Wang,
Assistant Secretary for Enforcement and Compliance.

Appendix—List of Topics Discussed in the Issues and Decision Memorandum

I. Summary

II. Background

III. Scope of the Order

IV. Description of Merchandise Subject to this Inquiry

V. Discussion of the Issues

Comment 1: Whether Commerce Erred in Determining That Merchandise in Scenario 1 is Within the Scope of the Order

Comment 2: Whether Commerce Erred in Determining That Merchandise in Scenario 2 is Not Subject to the Scope of the Order

VI. Recommendation

[FR Doc. 2023-22368 Filed 10-6-23; 8:45 am]

BILLING CODE 3510-DS-P